DEPARTMENT OF LABOR

Office of the Secretary

Submission for OMB Review; Comment Request

October 22, 2002.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by calling the Department of Labor. To obtain documentation contact Darrin King on 202-693-4129 or e-mail:

King-Darrin@dol.gov.

Comments should be sent to Office of Information and Regulatory Affairs, Attn: OMB Desk Officer for ETA, Office of Management and Budget, Room 10235, Washington, DC 20503 (202-395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration (ETA).

Type of Review: Extension of a currently approved collection.

Title: MIS Requirements for Youth Opportunity Grants.

OMB Number: 1205-0414.

Affected Public: State, Local, or Tribal Government and Not-for-profit institutions.

Type of Response: Reporting.

Cite/Reference | Total respondents | Frequency | Total responses | Average response time per form (hours) | Annual burden hours
ETA-9086 | 36 | Monthly | 432 | 104 | 44,928
ETA-9087 | 36 | Quarterly | 144 | 48 |
|  |  |  |  | 6,912
Totals |  |  | 576 |  | 51,840

Total Annualized Capital/Startup Costs: $0.

Total Annual Costs (operating/maintaining systems or purchasing services): $0.

Description: The Department of Labor (DOL) has obligated roughly $750 million over the first three years on Youth Opportunity Grants and will spend approximately $250 million more over the remaining two years on the original 36 grants to high-poverty communities. To manage these grants both at the Federal and local levels and to report to OMB and Congress on the effective use of these funds, DOL will need to continue to collect information on characteristics of youth enrolled, services provided, and program outcomes. Further section 169 of the Workforce Investment Act requires the use of performance measures to evaluate the performance of Youth Opportunity Grantees.

Ira L. Mills,
Departmental Clearance Officer.

[FR Doc. 02-27866 Filed 10-31-02; 8:45 am]

BILLING CODE 4510-30-P